DEPARTMENT OF TRANSPORTATION

National Highway Traffic Safety Administration

[U.S. DOT Docket No. NHTSA-2011-0129]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under the procedures established by the Paperwork Reduction Act of 1995, before seeking OMB approval, Federal agencies must solicit public comment on proposed collections of information, including extensions and reinstatements of previously approved collections. This document describes one collection of information for which NHTSA intends to seek OMB approval.

DATES: Comments must be received on or before November 21, 2011.

ADDRESSES: You may submit comments identified by DOT Docket ID Number NHTSA-2011-0129 using any of the following methods:

Electronic submissions: Go to http://www.regulations.gov. Follow the online instructions for submitting comments.

Mail: Docket Management Facility, M-30, U.S. Department of Transportation, West Building, Ground Floor, 1200 New Jersey Ave., SE., Room W12-140, Washington, DC, 20590.

Hand Delivery: West Building Ground Floor, Room W12-140, 1200 New Jersey Avenue, SE., Washington, DC, between 9 a.m. and 5 p.m., Monday through Friday, except Federal holidays.

Fax: 1-202-493-2251.

Instructions: Each submission must include the Agency name and the Docket number for this Notice. Note that all comments received will be posted without changes to http://www.regulations.gov including any personal information provided.

FOR FURTHER INFORMATION CONTACT: Eric Traube, Contracting Officer's Technical Representative, Office of Human-Vehicle Performance Research (NVS-331), National Highway Traffic Safety Administration, 1200 New Jersey Ave, SE., Washington, DC 20590. Mr. Traube's phone number is 202-366-5597. His e-mail address is etraube@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses.

In compliance with these requirements, NHTSA asks public comment on the following proposed collection of information:

National Survey of Driver Attitudes and Opinions of Advanced In-Vehicle Alcohol Detection Systems

Type of Request—New information collection requirement.

OMB Clearance Number—None.

Form Number—NHTSA Form 1157.

Requested Expiration Date of Approval—Three years from date of approval.

Summary of the Collection of Information—NHTSA proposes to collect information from the public to assess attitudes and opinions of innovative vehicle-based technology for detecting drivers whose blood alcohol level exceeds the limit. A national telephone survey will be administered to 1,000 randomly selected drivers, age 21 and older, drawn from all 50 states and the District of Columbia. The national survey will be preceded by a pretest administered to 25 respondents. Participation by respondents will be voluntary. Survey topics will include public perceptions of advanced in-vehicle alcohol detection technologies currently being developed, and preferences and concerns regarding technology design and potential installation in vehicles. Interviews will average 15 minutes.

In conducting the proposed survey, the interviewers will use computer-assisted telephone interviewing to reduce interview length and minimize recording errors. Interviews will be conducted with respondents using landline phones and with respondents using cell phones. The proposed survey will be anonymous; the survey will not collect any personal information that would allow anyone to identify respondents.

Description of the Need for the Information and Proposed Use of the Information—The National Highway Traffic Safety Administration's (NHTSA) mission is to save lives, prevent injuries, and reduce healthcare and other economic costs associated with motor vehicle crashes. In 2009, 10,839 people were killed in alcohol-impaired-driving crashes. Drivers are considered to be alcohol-impaired when their blood alcohol concentration (BAC) is .08 grams per deciliter (g/dL) or higher. These alcohol-impaired-driving fatalities accounted for 32 percent of the total motor vehicle traffic fatalities in the United States.

In a continuing effort to reduce the adverse consequences of alcohol-impaired driving, NHTSA in conjunction with the Automotive Coalition for Traffic Safety (ACTS) is undertaking research and development to explore the feasibility of, and public policy challenges associated with, use of in-vehicle alcohol detection technology. The agency believes that use of vehicle-based, alcohol detection technologies could help to significantly reduce the number of alcohol-impaired driving crashes, deaths and injuries by preventing drivers from driving while their blood alcohol concentration (BAC) is at or above the legal limit. Alcohol detection technologies suitable for installation in new vehicles must be able to measure BAC in a no-intrusive manner: that is, they must be seamless with the driving task, be highly accurate, fast, reliable, durable, and require little or no maintenance. In 2008, ACTS and NHTSA entered into a 5-Year Cooperative Agreement to “explore the feasibility, the potential benefits of, and the public policy challenges associated with a more widespread use of unobtrusive technology to prevent drunk driving”. The goal of the Driver Alcohol Detection System for Safety (DADSS) project is, through a step-by-step, data-driven process, to develop and test prototypes that may be considered for vehicle integration thereafter. Two technologies are being investigated; a touch-based approach allowing assessment of alcohol in human tissue and a breath-based approach allowing assessment of alcohol concentration in the driver's exhaled breath.

As technology development progresses and decisions are being made about best practices for integrating such technology into vehicles, NHTSA is soliciting public opinions about the proposed in-vehicle alcohol detection devices. Optimization of technology and public acceptance of it once deployed will depend on the extent to which public attitudes are taken into account during the development process. Thus NHTSA seeks input from drivers to:

• Gauge public perceptions of advanced in-vehicle alcohol detection technology;

• Guide the technology design; and

• Guide a strategy for introduction of this technology.

Description of the Likely Respondents (Including Estimated Number, and Proposed Frequency of Response to the Collection of Information)—Under this proposed effort, the Contractor will conduct 25 pretest telephone interviews and 1,000 national survey telephone interviews for a total of 1025 interviews. Interviews will be 15 minutes in length. The respondent sample will be selected from all 50 States and the District of Columbia. Interviews will be conducted with randomly selected persons with residential phones or cell phones. Businesses are ineligible for the sample and will not be interviewed. No more than one respondent will be selected per household. Each member of the sample will complete one interview.

Estimate of the Total Annual Reporting and Recordkeeping Burden Resulting From the Collection of Information—NHTSA estimates that respondents will spend an average of 15 minutes each to complete the survey, for a total of 256 hours 15 minutes for the 25 pretest respondents and 1000 survey respondents. All interviewing will occur during a two-month period during 2012. Thus the annual reporting burden would be the entire 256 hours and 15 minutes. The respondents will not incur any reporting cost from the information collection. The respondents also will not incur any recordkeeping burden or recordkeeping cost from the information collection.

Authority: 44 U.S.C. Section 3506(c)(2)(A).

John Maddox,
Associate Administrator, Vehicle Safety Research.

[FR Doc. 2011-24038 Filed 9-19-11; 8:45 am]

BILLING CODE P